FEDERAL DEPOSIT INSURANCE CORPORATION

Sunshine Act Meetings

Pursuant to the provisions of the “Government in the Sunshine Act” (5 U.S.C. 552b), notice is hereby given that the Federal Deposit Insurance Corporation's Board of Directors will meet in open session at 4 p.m. on Friday, July 11, 2003, to consider the following matters:

Summary Agenda

No substantive discussion of the following items is anticipated. These matters will be resolved with a single vote unless a member of the Board of Directors requests that an item be moved to the discussion agenda.

Disposition of minutes of previous Board of Directors' meetings.

Summary reports, status reports, and reports of actions taken pursuant to authority delegated by the Board of Directors.

Discussion Agenda

Memorandum and resolution re: Joint Advance Notice of Proposed Rulemaking Regarding Risk-Based Capital Guidelines: Internal Ratings-Based Capital Requirement.

Memorandum and resolution re: Basel II Capital Accord: Joint Supervisory Guidance on Internal Ratings-Based Systems for Corporate Credit.

Memorandum and resolution re: Basel II Capital Accord: Joint Supervisory Guidance on Operational Risk Advanced Measurement Approaches for Regulatory Capital.

The meeting will be held in the Board Room on the sixth floor of the FDIC Building located at 550-17th Street, NW., Washington, DC.

The FDIC will provide attendees with auxiliary aids (e.g., sign language interpretation) required for this meeting. Those attendees needing such assistance should call (202) 416-2089 (Voice); (202) 416-2007 (TTY), to make necessary arrangements.

Requests for further information concerning the meeting may be directed to Ms. Valerie J. Best, Assistant Executive Secretary of the Corporation, at (202) 898-3742.

Dated: July 3, 2003.
Federal Deposit Insurance Corporation.
Valerie J. Best,
Assistant Executive Secretary.

[FR Doc. 03-17353 Filed 7-3-03; 8:45 am]

BILLING CODE 6714-01-M